SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in DATES.

DATES: November 1-30, 2015.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, being rescinded for the consumptive use of water pursuant to the Commission's approval by rule process set forth in 18 CFR 806.22(e) and § 806.22(f) for the time period specified above:

Rescinded ABR Issued

1. Chesapeake Appalachia, LLC, Pad ID: Carter, ABR-201205015, North Towanda Township, Bradford County, Pa.; Rescind Date: November 19, 2015.

2. Chesapeake Appalachia, LLC, Pad ID: Gene, ABR-201209011, Overton Township, Bradford County, Pa.; Rescind Date: November 19, 2015.

3. Chesapeake Appalachia, LLC, Pad ID: Outback, ABR-201301015, Elkland Township, Sullivan County, Pa.; Rescind Date: November 19, 2015.

4. Chesapeake Appalachia, LLC, Pad ID: Rock Ridge, ABR-201108015, Towanda Township, Bradford County, Pa.; Rescind Date: November 19, 2015.

5. Chesapeake Appalachia, LLC, Pad ID: Walters, ABR-201305007, Mehoopany Township, Wyoming County, Pa.; Rescind Date: November 19, 2015.

6. Chesapeake Appalachia, LLC, Pad ID: Beaver Dam, ABR-201104009, Cherry and Colley Townships, Sullivan County, Pa.; Rescind Date: November 24, 2015.

7. WPX Energy Appalachia, LLC, Pad ID: Nayavich Well Pad, ABR-201105010, Sugarloaf Township, Columbia County, Pa.; Rescind Date: November 24, 2015.

8. Talisman Energy USA, Inc., Pad ID: 05 092 Upham, ABR-201009078.R1, Pike Township, Bradford County, Pa.; Rescind Date: November 27, 2015.

9. Range Resources-Appalachia, LLC, Pad ID: Carmen III Unit #1H Drilling Pad, ABR-201104005, Rush Township, Centre County, Pa.; Rescind Date: November 27, 2015.

Authority: Pub. L. 91-575, 84 Stat. 1509 et seq., 18 CFR Parts 806, 807, and 808.

Dated: December 14, 2015.
Stephanie L. Richardson,
Secretary to the Commission.

[FR Doc. 2015-31829 Filed 12-17-15; 8:45 am]

BILLING CODE 7040-01-P